DEPARTMENT OF AGRICULTURE

Submission for OMB Review; Comment Request

January 16, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by February 21, 2020. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Fruit Crops.

OMB Control Number: 0581-0189.

Summary of Collection: Marketing orders and marketing agreements are authorized by the Agricultural Marketing Agreement Act (AMAA) of 1937 (U.S.C. 601-674; Act). This legislation permits the regulation of certain agricultural commodities for the purpose of providing orderly marketing conditions in interstate and intrastate commerce and improving returns to producers. Marketing Order programs provide an opportunity for producers of fresh fruits vegetables and specialty crops in specified production areas, to work together to solve marketing problems that cannot be solved individually. Marketing order regulations help ensure adequate supplies of high-quality product and adequate returns to producers. Under the market orders, producers and handlers are nominated by their respective peers and serve as representatives on their respective committees/boards.

Need and Use of the Information: The information collection requirements in this request are essential to carry out the intent of the Act, to provide the respondents the type of service they request, and to administer the marketing orders. The Agricultural Marketing Service (AMS) requires several forms to be filed to enable the administration of each marketing order. These include forms covering the selection process for industry members to serve on a marketing order's committee or board and ballots used in referenda to amend or continue marketing orders. If this information collection was not conducted, not only would the Secretary lose his ability to administer the marketing orders, but the respective committees also would have no way of monitoring industry compliance with their respective marketing order and agreement. They would also not be able to determine the assessments due from industry handlers and growers, which would negatively impact any market research and promotion activities.

Description of Respondents: Business or other for-profit; Farms.

Number of Respondents: 6,800.

Frequency of Responses: Recordkeeping; Reporting; on Occasion, Quarterly; Biennially; Weekly; Semi-annually; Monthly; Annually.

Total Burden Hours: 7,780.

Agricultural Marketing Service

Title: National Organic Program.

OMB Control Number: 0581-0191.

Summary of Collection: The Organic Foods Production Act of 1990 (OFPA) as amended (7 U.S.C. 6501-6522) mandates that the Secretary of Agriculture develop a National Organic Program (NOP) to accredit eligible State government, State officials or private person as certifying agents who would certify producers or handlers of agricultural products that have been produced using organic methods as provided for in OFPA. The purposes of the regulation mandated by OFPA are: (1) To establish national standards governing the marketing of certain agricultural products as organically produced products; (2) to assure consumers that organically produced products meet a consistent standard; and (3) to facilitate interstate commerce in fresh and processed food that is organically produced. The NOP regulation fulfills the requirements of the OFPA. It includes comprehensive production and handling standards, labeling provisions, requirements for the certification of producers and handlers, accreditation of certifying agents by USDA and an administrative subpart for fees, State Programs, National List, appeals, compliance and pesticide residue testing. The Agricultural Marketing Service will approve programs for State governments wishing to establish State Organic Programs.

Need and Use of the Information: The information collected is used by USDA, State program governing State officials, and certifying agents. The information is used to evaluate compliance with OFPA and NOP for administering the program, for management decisions and planning, for establishing the cost of the program and to support any administrative and regulatory actions in response to non-compliance with OFPA. Certifying agents will have to submit an application to USDA to become accredited to certify organic production and handling operations. Auditors will review the application, perform site evaluation and submit reports to USDA, who will make a decision to grant or deny accreditation. Producers, handlers and certifying agents whose operations are not approved have the right to mediation and appeal the decision. Reporting and recordkeeping are essential to the integrity of the organic certification system. If the collection of information was not conducted, the AMS would not be able to carry out the intent of Congress as it enforces the OFPA.

Description of Respondents: Farms; Individuals or households; Business or other for-profit; State, Local or Tribal Government.

Number of Respondents: 50,025.

Frequency of Responses: Reporting: Annually; Recordkeeping.

Total Burden Hours: 5,667,276.

Ruth Brown,
Departmental Information Collection Clearance Officer.

[FR Doc. 2020-00943 Filed 1-21-20; 8:45 am]

BILLING CODE 3410-02-P